DEPARTMENT OF TRANSPORTATION

Federal Highway Administration

Environmental Impact Statement: Cumberland, Harnett and Wake Counties, NC

AGENCY: Federal Highway Administration (FHWA), DOT.

ACTION: Notice of Intent.

SUMMARY: The FHWA is issuing this notice to advise the public that an environmental impact statement will be prepared for a proposed highway project from north of Fayetteville to the Town of Fuquay-Varina, Cumberland, Harnett and Wake Counties, North Carolina. (TIP Project R-2609)

FOR FURTHER INFORMATION CONTACT: Mr. Clarence W. Coleman, P.E., Director of Preconstruction and Environment, Federal Highway Administration, 310 New Bern Avenue, Suite 410, Raleigh, North Carolina 27601, Telephone: (919) 747-7014.

SUPPLEMENTARY INFORMATION: The FHWA, in cooperation with the North Carolina Department of Transportation (NCDOT), will prepare an Environmental Impact Statement (EIS) on proposed improvements to the US 401 corridor from north of Fayetteville to the Town of Fuquay-Varina. The purpose of this project is to improve the traffic carrying capacity and mobility on the US 401 corridor. The proposed action is consistent with the Fuquay-Varina Community Transportation Plan adopted in 2006 and the Harnett County Thoroughfare Plan adopted in 1994. Alternatives to be studied include: (1) The “no-build” alternative, (2) improve existing facilities, and (3) potential bypass or new location alternatives.

Letters describing the proposed action and soliciting comments have been sent to appropriate Federal, State and local agencies. Citizen's informational workshops and meetings with local officials and neighborhood groups will be held in the study area. Public hearings will also be held. Information on the time and place of the workshops and hearings will be provided in the local news media. The Draft EIS will be available for public and agency review and comment at the time of the hearing.

An interagency project team is being assembled to obtain input on major milestones during the project's development. These include the purpose and need, detailed study alternatives, bridge lengths, alignment reviews, the preferred alternative, and avoidance and minimization of environmental impacts.

An interagency scoping meeting for the DEIS was held on April 27, 2009. The meeting was held at 10 a.m. in Raleigh, North Carolina at the NCDOT Transportation Building, 1 South Wilmington Street, in Conference Room 470. To ensure that the full range of issues related to the proposed action was addressed and all significant issues were identified, comments and suggestions were invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: January 21, 2010.
Clarence W. Coleman,
Director of Preconstruction and Environment, Raleigh, North Carolina.

[FR Doc. 2010-2116 Filed 2-1-10; 8:45 am]

BILLING CODE 4910-22-P